LIBRARY OF CONGRESS

Copyright Office

[Docket No. 2002-7 DD 99-01]

Ascertainment of Controversy for the Distribution of the 1999, 2000, and 2001 Digital Audio Recording Royalty Funds

AGENCY: Copyright Office, Library of Congress.

ACTION: Correction.

SUMMARY: This document corrects an error in the notice requesting that interested parties file Notices of Intention to participate in the proceeding to distribute the 1999, 2000 and 2001 Musical Works Funds.

FOR FURTHER INFORMATION CONTACT: Tanya M. Sandros, Senior Attorney, Copyright Arbitration Royalty Panel, P.O. Box 70977, Southwest Station, Washington, DC 20024. Telephone: (202) 707-8380. Telefax: (202) 252-3423.

Correction

In document 02-17897 beginning on page 46698 in the issue of July 16, 2002, make the following correction, in the Supplementary Information section:

On page 46698, in the third column, the first sentence in the last paragraph which reads, “Each claimant who intends to participate in the distribution of the 1995, 1996, 1997, and 1998 Musical Works Funds must also file a Notice of Intention to participate.” is corrected to read as follows: “Each claimant who intends to participate in the distribution of the 1999, 2000 and 2001 Musical Works Funds must also file a Notice of Intention to participate.”

Dated: July 17, 2002.
Marilyn J. Kretsinger,
Assistant General Counsel.

[FR Doc. 02-18277 Filed 7-18-02; 8:45 am]

BILLING CODE 1410-31-P